DEPARTMENT OF DEFENSE

Department of the Army

Update to the 30 July 2013 Military Freight Traffic Unified Rules Publication (MFTURP) No. 1

AGENCY: Department of the Army, DoD.

ACTION: Notice.

SUMMARY: The Military Surface Deployment and Distribution Command (SDDC) is providing notice that it is releasing an updated MFTURP No. 1.

DATES: The update will be effective on October 24, 2016.

ADDRESSES: Submit comments to SDDC, G35, Transportation Policy, Process and Systems Branch, 1 Soldier Way, Building 1900W, ATTN: SDDC-AMSSD-OPT, Scott AFB 62225. Request for additional information may be sent by email to: usarmy.scott.sddc.mbx.g3-transportation-rules@mail.mil.

FOR FURTHER INFORMATION CONTACT: usarmy.scott.sddc.mbx.g3-transportation-rules@mail.mil.

SUPPLEMENTARY INFORMATION: Reference: Military Freight Traffic Unified Rules Publications (MFTURP) No. 1. Background: The MFTURP No. 1 governs the purchase of surface freight transportation in the Continental United States (CONUS) by DoD using Federal Acquisition Regulation (FAR) exempt transportation service contracts. Miscellaneous: This publication, as well as the other SDDC publications, can be accessed via the SDDC Web site at: http://www.sddc.army.mil/GCD/default.aspx.

Brenda S. Bowen,
Army Federal Register Liaison Officer.

[FR Doc. 2016-25619 Filed 10-21-16; 8:45 am]

BILLING CODE 5001-03-P